DEPARTMENT OF THE TREASURY

Internal Revenue Service

26 CFR Parts 41, 48, and 145

[REG-103829-99]

RIN 1545-AX10

Excise Taxes; Definition of Highway Vehicle

AGENCY: Internal Revenue Service (IRS), Treasury.

ACTION: Extension of time for comments and requests for a public hearing.

SUMMARY: This document provides notice of an extension of time for submitting comments and requests for a public hearing concerning the notice of proposed rulemaking relating to the definition of a highway vehicle. This document extends the period for the submission of comments and requests for a public hearing to December 4, 2002.

DATES: Written or electronic comments and requests for a public hearing must be received by December 4, 2002.

ADDRESSES: Send submissions to: CC:ITA:RU (REG-103829-99), room 5226, Internal Revenue Service, POB 7604, Ben Franklin Station, Washington, DC 20044. Submissions may be hand delivered Monday through Friday between the hours of 8 a.m. and 5 p.m. to: CC:ITA:RU (REG-103829-99), Courier's Desk, Internal Revenue Service, 1111 Constitution Avenue, NW., Washington, DC. Alternatively, taxpayers may submit electronic comments directly to the IRS Internet site at http://www.irs.gov/regs.

SUPPLEMENTARY INFORMATION: On June 6, 2002, a notice of proposed rulemaking (REG-103829-99) was published in the Federal Register (67 FR 38913) relating to the definition of highway vehicle requesting submissions of comments and requests for a public hearing on September 4, 2002. The deadline for submitting comments and requests for a public hearing is extended to December 4, 2002.

Cynthia E. Grigsby,
Chief, Regulations Unit, Associate Chief Counsel, (Income Tax and Accounting).

[FR Doc. 02-20908 Filed 8-15-02; 8:45 am]

BILLING CODE 4830-01-P